DEPARTMENT OF AGRICULTURE

Food and Nutrition Service

Agency Information Collection Activities: Proposed Collection; Comment Request—Supplemental Nutrition Assistance Program (SNAP): Operating Guidelines, Forms, Waivers, and Annual State Report on Verification of SNAP Participation

AGENCY: Food and Nutrition Service (FNS), USDA.

ACTION: Notice.

SUMMARY: In accordance with the Paperwork Reduction Act of 1995, this notice invites the general public and other public agencies to comment on this information collection. This is a revision of a currently approved collection that consists of several components of State agency reporting and/or recordkeeping: State Plan of Operations, Puerto Rico Plan of Operations, Territory Memorandums of Understanding (MOUs), a budget projection statement, a program activity report, waiver requests submitted via the Waiver Information Management System (WIMS), card skimming reporting, and other plans and submissions such as advance planning documents for information systems and for electronic benefit transfer (EBT) systems. This collection also merges the activities under the Annual State Report on Verification of SNAP participation, OMB Control Number 0584-0605, expiration date 06/30/2025 into this collection which ensures that no person who is deceased, or who has been permanently disqualified from SNAP, improperly received SNAP benefits for the fiscal year preceding the report submission. Section 4032 of the Agriculture Act of 2014 is the basis for this collection. The Food and Nutrition Service (FNS) considers an email from each State agency to their corresponding FNS Regional SNAP Program Director verifying their compliance with Section 4032 of the Agriculture Act of 2014 as the mechanism for compliance. FNS intends to discontinue the Annual State Report of Verification of SNAP Participants, OMB Control Number 0584-0605 expiration date 06/30/2025 following OMB approval of this information collection request.

DATES: Written comments must be received on or before May 23, 2023.

ADDRESSES: Comments may be sent to: Maribelle Balbes, Branch Chief, State Administration Branch, Program Administration and Nutrition Division, Food and Nutrition Service, 5th Floor, U.S. Department of Agriculture, 1320 Braddock Place, Alexandria, VA 22302. Comments may also be submitted via email to SM.FN.SNAPSAB@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Maribelle Balbes 703-605-4272.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Operating Guidelines, Forms, Waivers, and Annual State Report on Verification of SNAP Participation.

OMB Number: 0584-0083.

Forms: FNS-366A; FNS-366B; FNS-388; FNS-388A; SF-425/FNS-778 Recordkeeping Only.

Expiration Date: August 31, 2023.

Type of Request: Revision of a currently approved collection.

Abstract: Section 16(a) of the Food and Nutrition Act of 2008 (the Act) authorizes 50 percent Federal reimbursement for State agency costs to administer the program. 7 CFR 272.2(a) of SNAP regulations states that State agencies shall periodically plan and budget program operations and establish objectives for the next year. The basic components of the State Plan of Operation are the Federal/State Agreement, the Budget Projection Statement (FNS-366A), the Program Activity Statement (FNS-366B) (7 CFR 272.2(a)(2)), and a new requirement for State plans for the replacement of stolen SNAP benefits using Federal funds as required by statute under section 501(b) of the Consolidated Appropriations Act, 2023. Under 7 CFR 272.2(c), the State agency shall annually submit to FNS for approval a Budget Projection Statement (FNS-366A) which shall contain projections for each quarter of the next Federal Fiscal Year and a narrative justification document explaining the assumptions used to arrive at the projections. The State agency shall also submit quarterly a Program Activity Statement (FNS-366B) soliciting a summary of Program activity for the State agency's operations during the preceding reporting period. Additionally, State agencies and territories will submit a monthly report of benefit issuance and participation data using the FNS-388, and a semi-annual report of benefit and participation data by project area using the FNS-388A. The FNS-366A, the FNS-366B, FNS-388 and FNS 388A are submitted via the Food Programs Reporting System (FPRS), OMB Control Number 0584-0594 expiration date 07/31/2023, at https://fprs.fns.usda.gov. State agencies must also submit annually a State plan for the replacement of benefits stolen via card skimming, card cloning, and other similar fraudulent methods, which allows States to replace stolen benefits with Federal funds. All State Plans of Operation are submitted to FNS via the FNS PartnerWeb at https://partnerweb.usda.gov/. Additionally, State agencies must submit quarterly data reports on card skimming via WIMS. Certain attachments to the plan are to be submitted, as applicable. State agencies must provide FNS with changes to these attachments as they occur. Consequently, these attachments are considered State plan updates. Puerto Rico submits a State Plan of Operations while American Samoa and Commonwealth of Northern Mariana Islands (CNMI) submit an MOU that functions as a State Plan of Operations, each of these documents are submitted via email. While working on this revision, FNS became aware that the agency has been collecting this information from American Samoa, Puerto Rico, and the Commonwealth of the Northern Mariana Islands (CNMI); this information was not previously accounted for in this information collection, in violation of the Paperwork Reduction Act (PRA). FNS has addressed this oversight in this revision.

Under Section 11(o) of the Act, each State agency is required to develop and submit plans via email for the use of automated data processing (ADP) and information retrieval systems to administer SNAP. State agencies and territories are also required to submit a transmittal letter along with the ADP to verify the accuracy of information provided to FNS. Section 16(a) of the Act authorizes partial Federal reimbursement of State costs for State ADP systems that the Secretary determines will assist meeting the requirements of the Act, meets conditions prescribed by the Secretary, are likely to provide more efficient and effective administration of the program, and are compatible with certain other Federally-funded systems. Under 7 CFR 277.18(c)(1) of SNAP regulations, State agencies must obtain prior written approval from FNS when it plans to enhance, replace, or acquire Information System (IS) equipment with a total acquisition cost of $6 million or more in Federal and State funds. The State agency must submit via email an Advance Planning Document (APD) prior to acquiring planning services and an Implementation APD prior to acquiring ADP equipment or services. Additionally, State agencies administering SNAP may submit a request through WIMS, to obtain approval from FNS to deviate from a specific program rule or regulation. Current procedures require that in order for FNS to approve a SNAP waiver request, the State agency must submit the SNAP Waiver Request to FNS via WIMS.

SNAP regulations at 7 CFR 273.16 require that State agencies disqualify an individual who has committed an intentional program violation (IPV). Paragraph 7 CFR 273.16(e)(8) requires that these individuals “be disqualified in accordance with the disqualification periods and procedures in paragraph (b) of this section” (7 CFR 273.16(b)). Paragraph 7 CFR 273.16(i) requires State agencies to report information concerning each individual disqualified for an IPV to the disqualified recipient database, the electronic Disqualified Recipient System (eDRS), and to use eDRS data to determine the eligibility of individual applicants prior to certification. Activities associated with the reporting of this data are covered under Federal Collection Methods for SNAP Recipient Claims, OMB Control Number 0584-0446, expiration 09/30/2025; SNAP regulations at 7 CFR 272.14 require that each State agency establish a system to verify and ensure that benefits are not issued to individuals who are deceased, and that data source is the Social Security Administration's (SSA) Death Master File. The information required for the Annual State Report on Verification of SNAP Participation is obtained by validating that the State had the appropriate systems in place and followed procedures currently mandated at 7 CFR 272.14 and 7 CFR 273.16 for the preceding fiscal year. The burdens associated with establishing a system to verify and ensure that benefits are not issued to deceased individuals or those permanently disqualified from SNAP using both the SSA Death Master File and eDRS are already approved under SNAP Forms: Applications Periodic Reporting, Notices, OMB burden number 0584-0064, expiration date 02/29/2024.

In order to meet the reporting requirements specified in section 4032 of the Act, States are required to confirm via email to their FNS Regional SNAP Program Director that in the immediately preceding Federal fiscal year, they had the appropriate systems in place to meet the requirements of regulations at 7 CFR 272.14 and 273.16(i)(4) and that they conducted the matches required by these regulations. States are required to submit their section 4032 reports to the FNS Regional SNAP Director by March 31 each year for the preceding Federal fiscal year. The reporting and recordkeeping burden from OMB Control Number 0584-0605, Annual State Report on Verification of SNAP Participation, expiration date 06/30/2025 is being merged into this collection to improve operational efficiency and streamline information collection. The reporting burden being merged from this collection includes an annual email reminder from the FNS regional Offices, the compilation of information to confirm proper systems are in place for matches, and reporting information to FNS via email. Recordkeeping burden being merged from this collection includes maintaining match records.

Burden Estimates: The burden within this collection consists of reporting burden for the State Plan of Operation and Territory Memorandum of Understandings, APD Plans or Updates, and SNAP waiver requests via WIMS. With the merging of reporting burden from OMB Control Number 054-0605 into this collection, additional reporting burden includes an annual email reminder from FNS Regional Offices, the compiling of information to confirm proper systems are in place for eDRS and Deceased Matching System, and reporting that information to FNS via email. Recordkeeping burden for this collection includes forms FNS-366A FNS-366B, FNS-388, and FNS 388A, Plan of Operations Updates, card skimming records, Territory MOU Updates, SF-425, other APD Plans or Updates, and the maintenance of the confirmation of match records. The previously reported burden for this information collection was 1,124 burden hours. The requested burden for this collection is 1,230.95 hours (1,138.1 reporting burden hours and 92.85 recordkeeping hours). The increase in requested burden is to account for previously unreported burden related to information collected from territories in violation of the PRA, the merging of OMB Control Number 0584-0605 into this collection, the addition of card skimming plans as a part of the State Plans of Operations, and card skimming reporting.

Reporting

Reporting Burden Estimates: Affected public: State, Territory, local and Tribal Government agencies.

Estimated Number of Respondents: 164.

Estimated Number of Responses per Respondent: 4.82.

Estimated Total Annual Responses: 790.

Estimated Reporting Time per Response: 1.44.

Estimated Annual Reporting Burden Hours: 1,138.10.

Under 7 CFR 272.2 & 285.3—State Plan of Operations: 53 State agencies submit 1 response annually for a total of 53 annual responses. The reporting burden for submission of updates to State Plans of Operation is 7.5845 hours per respondent, resulting in an estimated 401.98 burden hours. FNS increased the time it takes to complete a State Plan of Operations by 1 hour, from 6.5845 hours per respondent to 7.5845 hours per respondent to account for the annual submission of a card skimming plan as a part of the State Plan of Operations.

Under the Consolidated Appropriations Act, 2023 Section 501(b)—Card Skimming Reporting: 53 State agencies report on card skimming quarterly (4) for a total of 212 responses. The reporting burden for submissions of card skimming reporting is 1 hour per respondent, resulting in an estimated 212 burden hours.

Under 7 U.S.C. 2028 and 7 CFR 272.2—Territories Memorandum of Understandings and Puerto Rico Plan of Operations: 3 Territories (CNMI American Samoa, and Puerto Rico) submit 1 response annually for a total of 3 annual responses. The reporting burden for submission of Territory MOUs and Puerto Rico Plan of Operations is 6.5845 hours per respondent resulting in an estimated 19.7535 burden hours.

Under 7 CFR 277.18—Advance Planning Document: FNS estimates that up to 56 State agencies and territories submit 1 APD, plan, or update submissions for a total of 56 annual responses at an average estimate of 2.5 hours per respondent. The estimated reporting burden for submission of other APD Plans or Updates is 140 burden hours.

Under 7 CFR 277.18—Report ADP to FNS via email: FNS estimates that 56 State agencies and territories will submit 1 APD via email to FNS once a year for a total of 56 responses. FNS estimates it will take approximately .5 hours (30 minutes) to compile this information and email it to FNS for a total of 28 burden hours.

Under 7 CFR 277.18—FNS Transmittal Letter for APD: FNS estimates that 56 State agencies and territories may submit 1 transmittal letter in conjunction with the APD to verify the accuracy of the information they are submitting once per year for a total of 56 annual responses. FNS estimates it will take .167 hours (10 minutes) for a State agency to draft and submit the transmittal letter for an estimated burden of 9.352 hours.

Under 7 CFR 277.18—Other APD Plan or Update: FNS estimates that approximately 12 State agencies or territories will update its APD once a year for a total of 12 annual responses. FNS estimates it will take 2.5 hours to update the APD plan for a total of 30 burden hours to submit updates to the APD.

Under 7 CFR 272.3(c)—SNAP Waiver Requests (WIMS): FNS estimates that 45 of 53 State agencies will submit 4 waivers annually for a total number of 180 waivers annually. Completion and submission of these waivers take approximately 1 hour for a total of 180 burden hours annually.

Under 7 CFR 272.13 and 7 CFR 273.16—Annual Email Reminder from FNS Regional Offices: FNS estimates that 53 State agencies and Puerto Rico will receive an annual reminder to confirm use of matches related to eDRS and/or Deceased Matching System for an estimated total annual response of 54. FNS estimates it will take .167 hours (10 minutes) to delegate this task for a total of 9.018 burden hours.

Under 7 CFR 272.13 and 7 CFR 273.16—Compile Information to Confirm Proper Systems are in Place for Matches: FNS estimates that 53 State agencies and Puerto Rico will compile information to confirm their systems are in place for eDRS and Deceased Matching Systems for an estimated total annual response of 54. FNS estimates it will take approximately 1 hours to compile this information for a total of 54 annual burden hours.

Under 7 CFR 272.13 and 7 CFR 273.16—Report Information to FNS via Email: FNS estimates that 53 State agencies and Puerto Rico will report the compiled information to FNS once for a total of 54 annual responses. FNS estimates it will take approximately 1 hour to report this information to FNS for a total of 54 annual burden hours.

Regulation | Respondent type | Burden activity | Estimated number of respondents | Estimated responses per respondent | Estimated total annual responses | Estimated hours per response | Estimated total annual hours | Burden hours in use without a valid OMB control No. | Previously approved burden hours merge from 0605 | Previously approved burden hours for 0083 | Difference due to adjustments | Differences due to program changes
REPORTING
State Agency Burden
272.2, 285.3 | State Government Management Analyst | Plan of Operations | 53 | 1 | 53 | 7.5845 | 401.9785 |  |  | 348.74 | 53.2385 |
Consolidated Appropriations Act, Section 501(b) | State Government Management Analyst | Card Skimming Reporting | 53 | 4 | 212 | 1 | 212 |  |  |  |  | 212
272.2 | State Government Management Analyst | Territory Memorandum of Understanding (MOU) and Puerto Rico Plan of Operations | 3 | 1 | 3 | 6.5845 | 19.7535 | 19.7535 |  |  | 19.7535 |
277.18 | State Government Management Analyst | Advance Planning Document (APD) | 56 | 1 | 56 | 2.5 | 140 | 140 |  |  | 140 |
277.18 | State Government Management Analyst | Report ADP to FNS via email | 56 | 1 | 56 | 0.5 | 28 | 28 |  |  | 28 |
277.18 | State Government Management Analyst | Transmittal Letter for APD | 56 | 1 | 56 | 0.167 | 9.352 | 9.352 |  |  | 9.352 |
277.18 | State Government Management Analyst | Other APD Plan or Update* | 12 | 1 | 12 | 2.5 | 30 |  |  | 530 | −500 |
272.3(c) | State Government Management Analyst | SNAP Waiver Requests (WIMS) | 45 | 4 | 180 | 1 | 180 |  |  | 177.3 | 2.7 |
272.14, 273.16 | Administrative Manager | Annual Email Reminder from FNS Regional Offices (0605) * | 54 | 1 | 54 | 0.167 | 9.018 | 0.167 | 8.85 |  | 0.167 |
272.14, 273.16 | Eligibility Interviewer | Compile Information to Confirm Proper Systems are in Place for Matches (0605) | 54 | 1 | 54 | 1 | 54 | 1 | 53 |  | 1 |
272.14, 273.16 | Administrative Manager | Report Information to FNS via email (0605) * | 54 | 1 | 54 | 1 | 54 | 1 | 53 |  | 1 |
State Agency Reporting Total Burden Estimates | 164 | 4.817073171 | 790 | 1.440635443 | 1138.10 | 199.2725 |  |  | −244.789 | 212 |  |
* Note: 54 State agency Administrative Managers and 54 State agency Eligibility Interviewer are counted 1 time each, plus the 56 State agencies and territories for a total of 164 respondents for this data collection.

Recordkeeping

Recordkeeping Burden Estimates: Affected Public: State, Territory, Local and Tribal Government Agencies.

Estimated Number of Recordkeepers: 68.

Estimated Number of Records per Recordkeepers: 25.35.

Estimated Total Annual Records: 1,724.

Estimated Recordkeeping time per Recordkeepers: 0.06.

Estimated Annual Recordkeeping Burden Hours: 93.45.

Using 7 CFR 272.21(f) for all of the recordkeeping burden established for this information collection request—FNS-366A: 53 State agencies and Puerto Rico, are required to submit to FNS for approval a Budget Projection Statement, Form FNS-366A, which includes projections of the total Federal costs for major areas of program operations. There is a total of 54 recordkeepers for this activity. Each respondent submits 1 response annually for a total of 54 annual responses. A copy is maintained for 3 years. It takes approximately 0.0501 hours (3 minutes) to maintain each record. Total annual recordkeeping burden for FNS-366A is estimated at 2.7054 hours annually.

FNS-366B: 53 State agencies, Puerto Rico, and CNMI are required to submit to FNS quarterly, a Program Activity Statement, Form FNS-366B, providing a summary of program activity for the State agency's operations during its preceding quarter. Each State agency submits 4 responses annually for a total of 220 annual responses; each record takes approximately 0.0501 hours (3 minutes) to maintain. The annual recordkeeping burden for FNS-366B is estimated to be 11.022 hours.

FNS-388: 53 State agencies, American Samoa, CNMI, and Puerto Rico are required to submit to FNS a monthly report of benefit issuance and participation data using the form FNS-388. Each State agency submits 12 responses annually for a total of 672 annual responses; each record takes approximately .0501 hours (3 minutes) to maintain. The annual recordkeeping burden for FNS-388 is estimated to be 33.6672 hours.

FNS-388A: 53 State agencies and American Samoa are required to submit to FNS a semi-annual report of benefit and participation data by project area using the form FNS-388A. Each State agency submits 2 responses annually for a total of 108 annual responses; each record takes approximately .0501 hours (3 minutes) to maintain. The annual recordkeeping burden for FNS-388A is estimated to be 5.4108 hours.

State Plan of Operation Updates: 53 State agencies update the State plan of operations once annually for a total of 53 annual records; each record takes approximately 0.0668 hours (4 minutes) to maintain. The annual recordkeeping burden for updates to State Plans of Operation is 3.5404 hours.

Card Skimming Records: 53 State agencies are required to submit to FNS quarterly, card skimming records, providing updates and estimates on card skimming plans and activities in their State. Each State agency submits 4 responses annually for a total of 212 annual responses; each record takes approximately 0.668 hours (4 minutes) to maintain. The annual recordkeeping burden for updates to card skimming Records is 14.16 hours.

Territory MOUs and Puerto Rico Plan of Operations Updates: American Samoa and CNMI update their MOUs, and Puerto Rico updates its Plan of Operations, once annually for a total of 3 total annual records. Each record takes approximately .0668 hours (4 minutes) to maintain. The annual recordkeeping burden for updates to Territory MOUs and Puerto Rico Plan of Operations Updates is .2004 hours.

SF 425/FNS-778: 53 State agencies, Puerto Rico, CNMI, and American Samoa complete an SF-425/FNS-778 quarterly for a total of 224 estimated total records. It takes approximately .0501 hours (3 minutes) to maintain these records for a total of 11.2224 recordkeeping burden hours.

Advance Planning Documents: FNS estimates that 56 State agencies and 3 territories may submit 1 APD submission and approximately 56 records at an average estimate of 0.0501 hours (3 minutes) per record for an estimated total of 2.8056 recordkeeping burden hours.

Transmittal Letter for APD: FNS estimates that 56 State agencies and territories submit 1 transmittal letter for APDs for a total of 56 submissions and records at an estimate of .0501 hours (3 minutes) per record. The total estimated recordkeeping hours for a transmittal letter for APDs is 2.8056 hours.

Other APD plan or Update: FNS estimates that 12 State agencies and territories may submit 1 update to its APD for a total of 12 records. FNS estimates it will take .1169 hours (7 minutes) to maintain each record for a total of 1.4028 recordkeeping burden hours.

Maintain Confirmation of Match Records: FNS estimates that 53 State agencies and Puerto Rico will maintain 1 confirmation of match records for an estimated total of 54 annual records. FNS estimates it will take .0835 hours (5 minutes) to maintain these records for an estimated total of 4.51 recordkeeping burden hours.

Regulations | Respondent type | Form No. or activities | Number of recordkeepers | Number of records per recordkeeper | Estimated total annual records | Estimated hours per recordkeeper | Estimated total annual hours | Burden hours in use without a valid OMB control No. | Previously approved burden hours merge from 0605 | Previously approved burden hours merge from 0083 | Difference due to adjustments | Differences due to program changes
| State Government Management Analyst | FNS-366A | 54 | 1 | 54 | 0.0501 | 2.7054 | 0.0501 |  | 2.65 | 0.0501 |
| State Government Management Analyst | FNS-366B | 55 | 4 | 220 | 0.0501 | 11.022 | 0.4008 |  | 10.6 | 0.4008 |
| State Government Management Analyst | FNS-388 | 56 | 12 | 672 | 0.0501 | 33.6672 | 1.8036 |  | 15.26 | 20.2108 |
| State Government Management Analyst | FNS-388A | 54 | 2 | 108 | 0.0501 | 5.4108 | 0.1002 |  | 2.54 | 2.971 |
| State Government Management Analyst | Plan of Operations Updates | 53 | 1 | 53 | 0.0668 | 3.5404 |  |  | 3.15 | 0.3904 |
| State Government Management Analyst | Card Skimming Records | 53 | 4 | 212 | 0.0668 | 14.1616 |  |  |  |  | 14.1616
| State Government Management Analyst | Territory MOU and Puerto Rico Plan of Operations Updates | 3 | 1 | 3 | 0.0668 | 0.2004 | 0.2004 |  |  | 0.2004 |
| State Government Management Analyst | SF-425/FNS-778 | 56 | 4 | 224 | 0.0501 | 11.2224 | 0.6012 |  | 10.6 | 0.6012 |
| State Government Management Analyst | Advance Planning Document (APD) | 56 | 1 | 56 | 0.0501 | 2.8056 | 2.8056 |  |  | 2.8056 |
| State Government Management Analyst | Transmittal Letter for APD | 56 | 1 | 56 | 0.0501 | 2.8056 | 2.8056 |  |  | 2.8056 |
| State Government Management Analyst | Other APD Plan or Update | 12 | 1 | 12 | 0.1169 | 1.4028 |  |  | 23.32 | −21.9172 |
7 CFR 272.1(f) | Eligibility Interviewer | Maintain Confirmation of Match Records (0605) | 54 | 1 | 54 | 0.0835 | 4.51 | 0.0835 | 4.4 |  | 0.0835 |
Recordkeeping Total Estimates |  |  | 68 | 25.35294118 | 1,724 | 0.054207193 | 93.45 | 8.8009 |  |  | 8.5521 | 14.1616
* Note: The 56 State agencies and territories employees and the maintenance of match records employees were only counted once each for a total of 112 recordkeepers.

Tameka Owens,
Assistant Administrator, Food and Nutrition Service.

[FR Doc. 2023-06107 Filed 3-23-23; 8:45 am]

BILLING CODE 3410-30-P